DEPARTMENT OF HOMELAND SECURITY

Federal Emergency Management Agency

Docket ID FEMA-2011-0017; OMB No. 1660-0040]

Agency Information Collection Activities: Submission for OMB Review; Comment Request, Standard Flood Hazard Determination Form

AGENCY: Federal Emergency Management Agency, DHS.

ACTION: Notice.

SUMMARY: The Federal Emergency Management Agency (FEMA) will submit the information collection abstracted below to the Office of Management and Budget for review and clearance in accordance with the requirements of the Paperwork Reduction Act of 1995. The submission will describe the nature of the information collection, the categories of respondents, the estimated burden (i.e., the time, effort and resources used by respondents to respond) and cost, and the actual data collection instruments FEMA will use.

DATES: Comments must be submitted on or before November 18, 2011.

ADDRESSES: Submit written comments on the proposed information collection to the Office of Information and Regulatory Affairs, Office of Management and Budget. Comments should be addressed to the Desk Officer for the Department of Homeland Security, Federal Emergency Management Agency, and sent via electronic mail to oira.submission@omb.eop.gov or faxed to (202) 395-5806.

FOR FURTHER INFORMATION CONTACT: Requests for additional information or copies of the information collection should be made to Director, Records Management Division, 1800 South Bell Street, Arlington, VA 20598-3005, facsimile number (202) 646-3347, or e-mail address FEMA-Information-Collections-Management@dhs.gov.

SUPPLEMENTARY INFORMATION:

Collection of Information

Title: Standard Flood Hazard Determination Form.

Type of information collection: Extension, without change, of a currently approved information collection.

OMB Number: 1660-0040.

Form Titles and Numbers: FEMA Form 086-0-32 (previously FEMA Form 81-93), Standard Flood Hazard Determination Form (SFHDF).

Abstract: FEMA Form 086-0-32 (previously FEMA Form 81-93), SFHDF is used by regulated lending institutions, federal agency lenders, related lenders/regulators, and the Government. Federally regulated lending institutions complete this form when making, increasing, extending, renewing or purchasing each loan for the purpose is of determining whether flood insurance is required and available. The form may also be used by property owner, insurance agents, realtors, community officials for flood insurance related documentation.

Affected Public: Business or other for-profit.

Estimated Number of Respondents: 46,456,460.

Frequency of Response: On occasion.

Estimated Average Hour Burden per Respondent: Standard Flood Hazard Determination Form (SFHDF), 20 minutes.

Estimated Total Annual Burden Hours: 15,330,632 hours.

Estimated Cost: There are no operation and maintenance, or capital and start-up costs associated with this collection of information.

Dated: October 13, 2011.
Gary L. Anderson,
Acting Chief Administrative Officer, Mission Support Bureau, Federal Emergency Management Agency, Department of Homeland Security.

[FR Doc. 2011-27071 Filed 10-18-11; 8:45 am]

BILLING CODE 9110-11-P